DEPARTMENT OF EDUCATION

Notice of Proposed Information Collection Requests; Office of Special Education and Rehabilitative Services; Case Service Report (Rehabilitation Services Administration (RSA)-911)

SUMMARY: The Case Service Report (RSA-911) is an annual report of demographic and caseload information, including financial information, related to all individuals who have exited the State Vocational Rehabilitation Service Program (VR program).

DATES: Interested persons are invited to submit comments on or before August 31, 2012.

ADDRESSES: Written comments regarding burden and/or the collection activity requirements should be electronically mailed to ICDocketMgr@ed.gov or mailed to U.S. Department of Education, 400 Maryland Avenue SW., LBJ, Washington, DC 20202-4537. Copies of the proposed information collection request may be accessed from http://edicsweb.ed.gov, by selecting the “Browse Pending Collections” link and by clicking on link number 04882. When you access the information collection, click on “Download Attachments” to view. Written requests for information should be addressed to U.S. Department of Education, 400 Maryland Avenue SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. Chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Case Service Report (Rehabilitation Services Administration (RSA)-911).

OMB Control Number: 1820-0508.

Type of Review: Extension .

Total Estimated Number of Annual Responses: 80.

Total Estimated Number of Annual Burden Hours: 6,500 .

Abstract: The data comprising the Case Service Report are mandated by the Rehabilitation Act of 1973, as amended (the Act). Applicable portions of the Rehabilitation Act explicitly or implicitly require the recording and reporting of specific data elements by state VR agencies to the RSA. Section 13 of the Act requires the Commissioner to collect and report information specified in section 101(a)(10) to the Congress and the President in the Annual Report. Section 14 of the Act requires the Commissioner to conduct evaluations of the VR program. The information from this data collection is used in evaluating the outcomes of the program. Section 626 requires the same information to be reported for individuals who received supported employment (SE) services. RSA-911 data are also needed to satisfy the requirements of Section 131 calling for an exchange of data between RSA, the Social Security Administration and the Department of Labor.

Dated: June 27, 2012.
Darrin A. King,
Director, Information Collection Clearance Division, Privacy, Information and Records Management Services, Office of Management.

[FR Doc. 2012-16184 Filed 6-29-12; 8:45 am]

BILLING CODE 4000-01-P